CONSUMER PRODUCT SAFETY COMMISSION

Sunshine Act Meeting

AGENCY: U.S. Consumer Product Safety Commission.

Time and Date: Thursday, September 14, 2000.

Location: Room 420, East West Towers, 4330 East West Highway, Bethesda, Maryland.

Status: Open to the Public.

Matter to be Considered:

Bed Rails

The staff will brief the Commission on options concerning whether the Commission should issue an advance notice of proposed rulemaking (ANPR) addressing a risk of injury/death associated with certain portable bed rails.

For a recorded message containing the latest agenda information, call (301) 504-0709.

CONTACT PERSON FOR ADDITIONAL INFORMATION: Sadye E. Dunn, Office of the Secretary, 4330 East West Highway, Bethesda, MD 20207 (301) 504-0800.

Dated: September 5, 2000.
Sadye E. Dunn,
Secretary.

[FR Doc. 00-23273 Filed 9-6-00; 2:59 pm]

BILLING CODE 6355-01-M